DEPARTMENT OF HOMELAND SECURITY

Coast Guard

[Docket No. USCG-2013-0240]

Change-1 to the Marine Safety Manual, Volume III

AGENCY: Coast Guard, DHS.

ACTION: Notice of availability.

SUMMARY: The Coast Guard announces the availability of Change-1 to the Marine Safety Manual (MSM), Volume III, Marine Industry Personnel, and the corresponding Commandant Change Notice that highlights the changes made to that manual. MSM Volume III provides information and interpretations on international conventions and U.S. statutory and regulatory issues relating to marine industry personnel. Change-1 is presented in a new format to facilitate future revisions by creating three distinct parts; Part A: Mariner Credentialing (Chapters 1-17), Part B: Vessel Manning (legacy Chapters 20-26, now Chapters 1-7), and Part C: Shipment and Service (legacy Chapters 18-19, now Chapters 1-2). The Commandant Change Notice discusses the substantive changes to Part B, Chapters 1 through 7. This Change includes revisions to Part C, Chapters 1 and 2, to account for revised regulations, updated forms, and reformatting. Part A will be reviewed and revised as part of a separate initiative.

DATES: Unless specifically stated otherwise, Change-1 to Marine Safety Manual, Volume III, Marine Industry Personnel, COMDTINST M16000.8B is effective as of August 5, 2014. Documents discussed in this notice should be available in the online docket within three business days of today's publication. This change has been incorporated into the electronic copy of the manual available on the Internet at http://www.uscg.mil/directives/listing_cim.asp?id=16000-16999. There will be no hardcopy distribution of this change.

ADDRESSES: To view the documents mentioned in this notice, go to http://www.regulations.gov and use “USCG-2013-0240” as your search term. Locate this notice in the search results, and use the filters on the left side of the page to locate specific documents by type. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

FOR FURTHER INFORMATION CONTACT: For information about this document, call or email Lieutenant Corydon Heard, Office of Commercial Vessel Compliance (CG-CVC), U.S. Coast Guard; telephone 202-372-1208, email Corydon.F.Heard@uscg.mil. For information about viewing material in the docket, call Cheryl Collins, Program Manager, Docket Operations, telephone 202-366-9826, toll free 1-800-647-5527.

SUPPLEMENTARY INFORMATION:

Background and Purpose

The Marine Safety Manual, Volume III, Marine Industry Personnel, COMDTINST M16000.8B, provides information and interpretations on international conventions and U.S. statutory and regulatory issues relating to marine industry personnel. The last revisions were released on May 27, 1999. The primary reasons for these changes are to incorporate the 2010 amendments to the International Convention on Standards of Training, Certification and Watchkeeping for Seafarers, 1978, as amended (STCW Convention), update the provisions for vessel manning, revise the discussion on the impact of multiple international standards, to clarify the applicability of tonnage measurement systems to U.S. flag vessels, and to include changes resulting from the consolidation of merchant mariner qualification credentials. The Coast Guard published two notices in the Federal Register announcing the availability of the changes to Part B (legacy chapters 20-26) and requested public comments (See 78 FR 48696 and 79 FR 14714) as well as input from the Merchant Marine Personnel Advisory Committee.

Specifically, the substantive changes announced in the initial notice (August 9, 2013) included: (1) Updated provisions for vessel manning, including guidance for the issuing of safe manning documents; (2) clarified roles, responsibilities, and facilitation of communications with the appropriate offices at Coast Guard Headquarters in alignment with current Coast Guard organization; and (3) revised discussion on the impact of multiple international standards, including the Officer's Competency Certificates Convention (OCCC) 1936, the International Convention for Safety of Life at Sea (SOLAS), the Global Maritime Distress and Safety System (GMDSS), and the Principles of Minimum Safe Manning (IMO Resolution A.1047(27)). Additionally, the initial draft clarified the applicability of tonnage measurement systems to U.S. flag vessels, and included changes resulting from the consolidation of merchant mariner qualification credentials, including the removal of references to the operated uninspected towing vessel endorsement.

The primary reasons for the supplemental notice (March 17, 2014) were to announce the incorporation of the 2010 amendments to the STCW Convention and to address the 15 public comments received from the initial solicitation as well as input from the Merchant Marine Personnel Advisory Committee.

We received 12 public comment responses to the March 17, 2014 supplemental Federal Register notice. These comment responses contained a total of approximately 29 specific recommendations, suggestions, and other comments. We have created a comment matrix that provides a summary of each comment and the corresponding Coast Guard response, as well as internal Coast Guard comments. A copy of this comment matrix is available for viewing in the public docket for this notice. For more detailed information, please consult the actual public comment letters, which are available in the docket. You may access the docket going to http://www.regulations.gov, using “USCG-2013-0240” as your search term, and following the instructions in the ADDRESSES section above.

The basic ideas and principles encompassed in the initial and supplemental drafts remain. Some commenters raised concerns and objections over several proposed revisions to the MSM. In response to these comments, the Coast Guard has made some additional revisions. The Coast Guard notes, however, that the MSM (and any revisions made to the MSM) reflect current law and regulation and are intended to provide guidance and information to marine industry personnel. A brief discussion of the comments is included below. For a more in-depth discussion of the individual comments submitted, please visit the docket for this notice to view submitted comments and the public comment matrix.

(1) The Coast Guard received several comments concerning revised language to the towing vessel work site exclusion provision. These comments generally objected to the use of the terms “emergency” and “intermittent” in the revised guidance and stated that use of these terms with regard to dredging operations was not intended by Congress when it provided guidance on work site exclusions. The Coast Guard agrees with these comments that dredging operations were specifically enumerated by Congress for this exclusion without further qualification. The use of the terms “emergency” and “intermittent” were meant to apply to towing operations not involving dredging operations seeking a work site exclusion and we stated so in the supplemental draft of Part B, Chapter 7.

(2) Multiple commenters expressed concern over the licensing requirements for uninspected fish processing vessels between 200 GT and less than 1600 GT (which entered into service prior to 1988). Specifically, commenters were concerned that Part B, Chapter 7 overturns a 20-year-old policy interpretation and compliance actions by the Coast Guard which allowed those fish processing vessels to operate without a licensed assistant engineer. The text in Part B, Chapter 7 is largely unchanged since the last revision of MSM III in 1999. However, the special “note” in Part B, Chapter 7 incorporates and makes specific reference to the December 2013 CG Message “Engineer Officer Endorsements on Uninspected Fishing Vessels” (R 061640Z DEC 13) and CG-543 Policy Letter 11-11 for relaxed enforcement measures on Uninspected Commercial Fishing Vessels until January 1, 2015—unless specified otherwise.

(3) An additional commenter noted that the passage and implementation of Public Law 98-89 necessitated the revision of the regulations to refer to “operation” of a vessel rather than “navigation” of a vessel. The regulations were revised to refer to “operation,” however, the Coast guard has failed to provide adequate guidance, particularly with respect to the minimum complement of officers and crew necessary for the safe operation of vessels when they are not in navigation. The Coast Guard acknowledges this comment and appreciates the commenter's concerns. As explained in the legislative history of Public Law 98-89, Congress intended the words “operate on” or “on” to replace the term “navigate” and it was intended “to cover all operations of a vessel when it is at the pier, idle in the water, at anchor, or being propelled through the water.” 1983 U.S. Code Cong. and Adm. News, p. 924, 933. However, because of the number and degree of varying operational scenarios it is difficult to develop standardized scales for every manning permutation. For vessels not carrying passengers—including those not underway—it is the responsibility of the master to establish adequate watches (46 CFR 15.705(a)). To clarify this, revisions have been incorporated into Part B, Chapter 5.

Additional changes include: (1) General revisions to Part C, Chapters 1 and 2 (legacy Chapters 18 and 19) to account for revised regulations, updated forms and reformatting; (2) Added Common COI/SMD Sample Endorsements to the Annex; and (3) Included a Forward at the beginning as an opener. These additional changes were not considered to be substantial, but were necessary to reflect revised regulations and current practice.

It should be noted that Change-1 is not intended to preempt or take the place of separate policy initiatives regarding specific decisions on appeal or future regulations. Future changes to the MSM may be released if the Coast Guard promulgates new regulations or appeal decisions, which may affect the guidance and information contained within the MSM.

If you discover a discrepancy between the manning or endorsements specified by the Certificate of Inspection/Safe Manning Documentation (COI/SMD) and the provisions of the MSM, Volume III, bring it to the attention of the OCMI with a view toward aligning with the revised MSM III.

This notice is issued under authority of 5 U.S.C. 552(a).

Dated: July 30, 2014.
Paul F. Thomas,
Rear Admiral, U.S. Coast Guard, Assistant Commandant for Prevention Policy.

[FR Doc. 2014-18528 Filed 8-4-14; 8:45 am]

BILLING CODE 9110-04-P